ELECTION ASSISTANCE COMMISSION

Sunshine Act Notice

AGENCY: U.S. Election Assistance Commission.

ACTION: Notice of Public Meeting for EAC Board of Advisors.

Date and Time: Tuesday, June 2, 2009, 8 a.m.-5:30 p.m. and Wednesday, June 3, 2009, 8 a.m.-5 p.m. and Thursday, June 4, 2009, 9 a.m.-12 Noon.

Place: Hamilton Crowne Plaza Hotel, Oasis Room at the Sphinx Club, 1315 K Street, Washington, DC 20005, phone number (202) 682-0111.

Purpose: The U.S. Election Assistance Commission (EAC) Board of Advisors, as required by the Help America Vote Act of 2002, will meet to receive updates on EAC program activities. The Board will receive updates on comments received regarding the Elections Operation Assessment Project. The Board will receive updates on the proposed next iteration of the Voluntary Voting System Guidelines. The Board will discuss proposed updates and improvements to the 2005 Voluntary Voting System Guidelines. The Board will discuss and consider a committee recommendation on the proposed Draft EAC Report to Congress on Election Day Data Grants Program. The Board will hear committee reports, elect officers and consider other administrative matters.

This Meeting will be open to the public.

Person to Contact for Information: Bryan Whitener, Telephone: (202) 566-3100.

Gracia M. Hillman,
Vice-Chair, U.S. Election Assistance Commission.

[FR Doc. E9-11987 Filed 5-19-09; 11:15 am]

BILLING CODE 6820-KF-P